DEPARTMENT OF STATE

[Public Notice: 8759]

Call for Reviewers of the World Ocean Assessment

ACTION: Notice of a certification.

SUMMARY: The U.S. Department of State, in coordination with the National Ocean Council, requests expert review of the draft World Ocean Assessment.

The United Nations (UN) has embarked on a regular process for global reporting on, and assessment of, the state of the marine environment, including socioeconomic aspects, the product of which is called the World Ocean Assessment (WOA). The projected completion date for the first WOA is December 2014. Subsequent WOAs are expected to be generated every five years in order to document trends in the state of the marine environment. The WOA includes more than fifty subjects grouped within four main themes: marine environment and understanding of the ocean's role in the global integrated Earth system; food security and food safety; human activities that influence the ocean or are influenced by the ocean; and marine biological diversity. A scientific and technical summary will integrate content to show linkages through interdisciplinary subjects such as human impacts, ecosystem services, and habitats. More information regarding the evolution and methodology of the WOA can be found at www.worldoceanassessment.org.

This fall, UN Member States will have an opportunity to review the draft WOA, which is expected to be comprised of 50 chapters (approximately 15 pages each) and a 70-page technical summary; the outline illustrates the very wide range of expertise needed for such review. The Department of State invites experts in relevant fields of expertise to participate in the U.S. Government review of the draft WOA. Beginning on 1 August 2014, experts may register to review the draft WOA at review.globalchange.gov, a Web-based review and comment system. Registered experts will have access to the draft WOA on 2 September 2014 and will have until midnight 30 September 2014 to submit their review comments using the Web-based review and comment system. Detailed instructions for review and submission of comments are available at review.globalchange.gov.

A Review Coordination Team comprised of Federal scientists and program managers will develop a consolidated U.S. Government review submission. Only comments received via the Web-based review and comment system within the comment period will be considered by the Review Coordination Team for inclusion in the U.S. Government review submission.

This certification will be published in the Federal Register.

Dated: June 2, 2014.
Evan T. Bloom,
Director, Office of Ocean and Polar Affairs, U.S. Department of State.

[FR Doc. 2014-13224 Filed 6-5-14; 8:45 am]

BILLING CODE 4710-09-P